DEPARTMENT OF ENERGY

Federal Energy Regulatory Commission

Combined Notice of Filings

Take notice that the Commission has received the following Natural Gas Pipeline Rate and Refund Report filings:

Filings Instituting Proceedings

Docket Numbers: RP18-556-001.

Applicants: Southern Natural Gas Company, L.L.C.

Description: Compliance filing Rate Case Settlement—Aphabetize GT&C Definitions & Remove Sec 33 Compliance to be effective 8/28/2018.

Filed Date: 6/29/18.

Accession Number: 20180629-5043.

Comments Due: 5 p.m. ET 7/11/18.

Docket Numbers: RP18-921-000.

Applicants: Natural Gas Pipeline Company of America.

Description: § 4(d) Rate Filing: Amendment to Negotiated Rate Agreement-Peoples Gas Light and Coke to be effective 7/1/2018.

Filed Date: 6/29/18.

Accession Number: 20180629-5001.

Comments Due: 5 p.m. ET 7/11/18.

Docket Numbers: RP18-922-000.

Applicants: Trailblazer Pipeline Company LLC.

Description: § 4(d) Rate Filing: TPC Section 4 Rate Case Filing to be effective 8/1/2018.

Filed Date: 6/29/18.

Accession Number: 20180629-5003.

Comments Due: 5 p.m. ET 7/11/18.

Docket Numbers: RP18-923-000.

Applicants: Enable Mississippi River Transmission, LLC.

Description: § 4(d) Rate Filing: MRT Rate Case 2018 to be effective 8/1/2018.

Filed Date: 6/29/18.

Accession Number: 20180629-5004.

Comments Due: 5 p.m. ET 7/11/18.

Docket Numbers: RP18-925-000.

Applicants: ANR Pipeline Company.

Description: § 4(d) Rate Filing: ANR TVA Negotiated Rate Amendment to be effective 6/29/2018.

Filed Date: 6/29/18.

Accession Number: 20180629-5033.

Comments Due: 5 p.m. ET 7/11/18.

Docket Numbers: RP18-926-000.

Applicants: Guardian Pipeline, L.L.C.

Description: § 4(d) Rate Filing: Update to Reservation of Capacity to be effective 7/30/2018.

Filed Date: 6/29/18.

Accession Number: 20180629-5050.

Comments Due: 5 p.m. ET 7/11/18.

Docket Numbers: RP18-927-000.

Applicants: Destin Pipeline Company, L.L.C.

Description: § 4(d) Rate Filing: Destin Negotiated Rate to be effective 8/1/2018.

Filed Date: 6/29/18.

Accession Number: 20180629-5063.

Comments Due: 5 p.m. ET 7/11/18.

Docket Numbers: RP18-928-000.

Applicants: Texas Eastern Transmission, LP.

Description: § 4(d) Rate Filing: Negotiated Rate—Direct Energy 8951931 eff 7-1-2018 to be effective 7/1/2018.

Filed Date: 6/29/18.

Accession Number: 20180629-5064.

Comments Due: 5 p.m. ET 7/11/18.

Docket Numbers: RP18-929-000.

Applicants: Kern River Gas Transmission Company.

Description: § 4(d) Rate Filing: 2018 July Amendments to be effective 7/1/2018.

Filed Date: 6/29/18.

Accession Number: 20180629-5066.

Comments Due: 5 p.m. ET 7/11/18.

Docket Numbers: RP18-930-000.

Applicants: Guardian Pipeline, L.L.C.

Description: § 4(d) Rate Filing: Update Negotiated Rate Agreement—Volume 1A to be effective 7/1/2018.

Filed Date: 6/29/18.

Accession Number: 20180629-5073.

Comments Due: 5 p.m. ET 7/11/18.

Docket Numbers: RP18-931-000.

Applicants: Algonquin Gas Transmission, LLC.

Description: § 4(d) Rate Filing: NRA—NRG Release to Genon Holdco 10 K511042 to be effective 6/29/2018.

Filed Date: 6/29/18.

Accession Number: 20180629-5076.

Comments Due: 5 p.m. ET 7/11/18.

Docket Numbers: RP18-932-000.

Applicants: Texas Gas Transmission, LLC.

Description: § 4(d) Rate Filing: Cap Rel Neg Rate Agmts (RE Gas 35433, 34955 to BP 37229, 37230) to be effective 7/1/2018.

Filed Date: 6/29/18.

Accession Number: 20180629-5080.

Comments Due: 5 p.m. ET 7/11/18.

Docket Numbers: RP18-933-000.

Applicants: Texas Gas Transmission, LLC.

Description: § 4(d) Rate Filing: Neg Rate Agmt (Logan Aluminum 36809) to be effective 7/1/2018.

Filed Date: 6/29/18.

Accession Number: 20180629-5078.

Comments Due: 5 p.m. ET 7/11/18.

Docket Numbers: RP18-934-000.

Applicants: Texas Gas Transmission, LLC.

Description: § 4(d) Rate Filing: Cap Rel Neg Rate Agmt (EM Energy Ohio 35451 to BP 37233) to be effective 7/1/2018.

Filed Date: 6/29/18.

Accession Number: 20180629-5079.

Comments Due: 5 p.m. ET 7/11/18.

Docket Numbers: RP18-935-000.

Applicants: Gulf South Pipeline Company, LP.

Description: § 4(d) Rate Filing: Cap Rel Neg Rate Agmts (PH 41455 to Texla 49716, Sequent 49722, Tenaska 49735) to be effective 7/1/2018.

Filed Date: 6/29/18.

Accession Number: 20180629-5081.

Comments Due: 5 p.m. ET 7/11/18.

Docket Numbers: RP18-936-000.

Applicants: Gulf South Pipeline Company, LP.

Description: § 4(d) Rate Filing: Cap Rel Neg Rate Agmts (Atlanta Gas 8438 to various shippers eff 7-1-2018) to be effective 7/1/2018.

Filed Date: 6/29/18.

Accession Number: 20180629-5082.

Comments Due: 5 p.m. ET 7/11/18.

Docket Numbers: RP18-937-000.

Applicants: Gulf Crossing Pipeline Company LLC.

Description: § 4(d) Rate Filing: Cap Rel Neg Rate Agmt (XTO 1846 to SW Energy 2016) to be effective 7/1/2018.

Filed Date: 6/29/18.

Accession Number: 20180629-5090.

Comments Due: 5 p.m. ET 7/11/18.

Docket Numbers: RP18-938-000.

Applicants: Millennium Pipeline Company, LLC.

Description: § 4(d) Rate Filing: Consent Agreements Filing to be effective 8/1/2018.

Filed Date: 6/29/18.

Accession Number: 20180629-5098.

Comments Due: 5 p.m. ET 7/11/18.

Docket Numbers: RP18-939-000.

Applicants: Millennium Pipeline Company, LLC.

Description: § 4(d) Rate Filing: Negotiated Rate Service Agreement—CPV to be effective 8/1/2018.

Filed Date: 6/29/18.

Accession Number: 20180629-5103.

Comments Due: 5 p.m. ET 7/11/18.

Docket Numbers: RP18-940-000.

Applicants: Empire Pipeline, Inc.

Description: § 4(d) Rate Filing: Empire Rate Case—June 2018 to be effective 1/1/2019.

Filed Date: 6/29/18.

Accession Number: 20180629-5111.

Comments Due: 5 p.m. ET 7/11/18.

Docket Numbers: RP18-941-000.

Applicants: Texas Eastern Transmission, LP.

Description: § 4(d) Rate Filing: Non-Conforming Agreement—ETG K400258 to be effective 7/1/2018.

Filed Date: 6/29/18.

Accession Number: 20180629-5155.

Comments Due: 5 p.m. ET 7/11/18.

Docket Numbers: RP18-942-000.

Applicants: North Baja Pipeline, LLC.

Description: § 4(d) Rate Filing: Service Agreement Recontracting Filing to be effective 8/1/2018.

Filed Date: 6/29/18.

Accession Number: 20180629-5157.

Comments Due: 5 p.m. ET 7/11/18.

Docket Numbers: RP18-943-000.

Applicants: Columbia Gulf Transmission, LLC.

Description: § 4(d) Rate Filing: Global Engie Non-Conforming Agreement Filing to be effective 7/1/2018.

Filed Date: 6/29/18.

Accession Number: 20180629-5158.

Comments Due: 5 p.m. ET 7/11/18.

Docket Numbers: RP18-944-000.

Applicants: Algonquin Gas Transmission, LLC.

Description: § 4(d) Rate Filing: Negotiated Rate—ConEd to East Coast Power 796838 to be effective 7/1/2018.

Filed Date: 6/29/18.

Accession Number: 20180629-5159.

Comments Due: 5 p.m. ET 7/11/18.

Docket Numbers: RP18-945-000.

Applicants: Northern Natural Gas Company.

Description: § 4(d) Rate Filing: 20180629 Negotiated Rates to be effective 7/1/2018.

Filed Date: 6/29/18.

Accession Number: 20180629-5235.

Comments Due: 5 p.m. ET 7/11/18.

Docket Numbers: RP18-946-000.

Applicants: El Paso Natural Gas Company, L.L.C.

Description: § 4(d) Rate Filing: Non-Conforming Agreement Update (SWG 2018) to be effective 7/1/2018.

Filed Date: 6/29/18.

Accession Number: 20180629-5239.

Comments Due: 5 p.m. ET 7/11/18.

Docket Numbers: RP18-947-000.

Applicants: Algonquin Gas Transmission, LLC.

Description: § 4(d) Rate Filing: Negotiated Rates ConEd releases eff 7-1-18 to be effective 7/1/2018.

Filed Date: 6/29/18.

Accession Number: 20180629-5240.

Comments Due: 5 p.m. ET 7/11/18.

Docket Numbers: RP18-948-000.

Applicants: Transcontinental Gas Pipe Line Company.

Description: § 4(d) Rate Filing: Negotiated Rates—Pivotal Permt Rls to ETG to be effective 7/1/2018.

Filed Date: 6/29/18.

Accession Number: 20180629-5259.

Comments Due: 5 p.m. ET 7/11/18.

Docket Numbers: RP18-949-000.

Applicants: Alliance Pipeline L.P.

Description: § 4(d) Rate Filing: Seven Generations Delivery Point Change to be effective 7/1/2018.

Filed Date: 6/29/18.

Accession Number: 20180629-5268.

Comments Due: 5 p.m. ET 7/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2018.
Nathaniel J. Davis, Sr.,
Deputy Secretary.

[FR Doc. 2018-14711 Filed 7-9-18; 8:45 am]

BILLING CODE 6717-01-P